DEPARTMENT OF JUSTICE

Notice of Lodging of Proposed Consent Decree Under the Clean Air Act

On June 19, 2013, the Department of Justice lodged a proposed consent decree with the United States District Court for the District of Kansas in the lawsuit entitled United States et al. v. Ash Grove Cement Company, Civil Action No. 2:13-cv-02299-JTM-DJW.

The proposed consent decree, if approved by the Court, would require Ash Grove Cement Company (“Ash Grove”) to achieve substantial reductions of nitrogen oxides (“NOX”), sulfur dioxide (“SO2”), and particulate matter (“PM”) at its nine cement manufacturing plants operating in as many states. The states of Arkansas, Idaho, Kansas, Montana, Nebraska, Oregon, Utah, Washington and the Puget Sound Clean Air Agency are parties to the proposed Decree. To reduce NOX emissions, the proposed Decree would require Ash Grove to install new, modern pollution controls on nine of the kilns; shut down two old, inefficient kilns; optimize the operation of two relatively small, older kilns; and meet stringent NOX emission limits. The Decree would also require Ash Grove to meet stringent emission limits to reduce SO2 emissions and would require modern pollution controls to reduce PM emissions at all eleven kilns that will continue to operate. Finally, the Decree would require Ash Grove to pay $2.5 million in civil penalties and to perform additional projects to replace diesel truck engines with modern, more efficient engines at its plants located in Arkansas, Kansas, and Texas. These truck engine replacements will further reduce NOX, PM, and ozone emissions.

The publication of this notice opens a period for public comment on the proposed Consent Decree. Comments should be addressed to the Assistant Attorney General, Environment and Natural Resources Division, and should refer to United States v. Ash Grove Cement Co., D.J. Ref. No. 90-5-2-1-09875. All comments must be submitted no later than thirty (30) days after the publication date of this notice. Comments may be submitted either by email or by mail:

To submit comments: | Send them to:
By email | pubcomment-ees.enrd@usdoj.gov.
By mail | Assistant Attorney General U.S. DOJ—ENRD P.O. Box 7611 Washington, DC 20044-7611.

During the public comment period, the proposed Consent Decree may be examined and downloaded at this Justice Department Web site: http://www.usdoj.gov/enrd/ConsentDecrees.html. We will provide a paper copy of the proposed Consent Decree upon written request and payment of reproduction costs. Please mail your request and payment to: Consent Decree Library, U.S. DOJ—ENRD, P.O. Box 7611, Washington, DC 20044-7611.

Please enclose a check or money order for $31.25 (25 cents per page reproduction cost) payable to the United States Treasury. For a paper copy without the exhibits and signature pages, the cost is $27.25.

Maureen Katz,
Assistant Section Chief, Environmental Enforcement Section, Environment and Natural Resources Division.

[FR Doc. 2013-15067 Filed 6-24-13; 8:45 am]

BILLING CODE 4410-15-P